DEPARTMENT OF THE INTERIOR

Bureau of Land Management

[LLNVB02000-L19200000-ET0000; N-94970; LR0RF1709500; MO#4500132064]

Public Land Order No. 7891; Withdrawal of Public Lands, Central Nevada Test Area; Nevada

AGENCY: Bureau of Land Management, Interior.

ACTION: Public Land Order.

SUMMARY: This Order withdraws 361 acres of public land from all forms of appropriation and disposition under the public lands, including the mining laws and the mineral leasing laws for a period of 20 years to assist the United States Department of Energy Office of Legacy Management to carry out its responsibilities regarding public health, safety, and national security in connection with a past underground nuclear detonation in Hot Creek Valley, Nye County, Nevada.

DATES: This Public Land Order takes effect on February 25, 2020.

FOR FURTHER INFORMATION CONTACT: Wendy Seley, Realty Specialist, Bureau of Land Management, Tonopah Field Office, 1553 S. Main St., P.O. Box 911, Tonopah, Nevada 89049; telephone: 775-482-7805; email: wseley@blm.gov; or write: Field Manager, BLM Tonopah Field Office, 1553 S. Main St., P.O. Box 911, Tonopah, Nevada 89049. Persons who use a telecommunications device for the deaf (TDD) may call the Federal Relay Service (FRS) at 1-800-877-8339 to contact Ms. Seley. The FRS is available 24 hours a day, 7-days a week, to leave a message or question. You will receive a reply during normal business hours.

SUPPLEMENTARY INFORMATION: In order to fulfill its obligations under the Atomic Energy Act of 1954 (42 U.S.C. 2201) regarding public health, safety, and national security in connection with a past underground nuclear detonation, the United States Department of Energy Office of Legacy Management requests that the 361 acres of public lands be withdrawn.

Order

By virtue of the authority vested in the Secretary of the Interior by Section 204 of the Federal Land Policy and Management Act of 1976, 43 U.S.C. 1714, it is ordered as follows:

1. Subject to valid existing rights, the following described public lands are hereby withdrawn from all forms of appropriation and other disposition under the public land laws, including the mining laws and the mineral-leasing laws, in order to protect the physical integrity of the subsurface environment and to ensure that the Department of Energy's ongoing, long-term site characterization studies of the Central Nevada Test Area are not invalidated or otherwise adversely affected.

Mount Diablo Meridian

T. 9 N. R. 51 E., Unsurveyed

Sections 14, 15, 22, and 23. It is an irregular bounded portion of land being more particularly described as follows:

Beginning at a point which is north 35°15′30″ west, 14,986.1 feet from the southeast corner of township 9 north, range 51 east.

Thence, north 89°43′10″ west, a distance of 6602.5 feet.

Thence, north 0°16′30″ east, a distance of 6602.6 feet.

Thence, south 89°43′10″ east, a distance of 6602.5 feet.

Thence, south 0°17′20″ west, a distance of 6602.6 feet to the POINT OF BEGINNING.

Basis of Bearing: Mean geodetic bearings referenced to the true meridian.

Excepting those portions withdrawn by PLO 4338 (UC-1 withdrawal).

The area described is 361 acres, in Nye County.

2. The withdrawal made by this Order does not alter the applicability of those public land laws governing the use of the land under lease, license, or permit, or governing the disposal of the mineral or vegetative resources other than under the mining laws and the mineral leasing laws. However, leases, licenses, or permits will be issued only if the Department of Energy finds that the proposed use of the lands will not interfere with the protection of human health and safety or the minimization of danger to life or property.

3. This withdrawal will expire on February 25, 2040, unless, as a result of a review conducted before the expiration date pursuant to Section 204(f) of the Federal Land Policy and Management Act of 1976, 43 U.S.C. 1714(f), the Secretary determines that the withdrawal shall be extended.

Dated: February 14, 2020.
Timothy R. Petty,
Assistant Secretary for Water and Science.

[FR Doc. 2020-03732 Filed 2-24-20; 8:45 am]

BILLING CODE 4310-HC-P